DEPARTMENT OF COMMERCE

International Trade Administration

Proposed Information Collection; Comment Request; Annual Report From Foreign-Trade Zones

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 1, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Christopher Kemp, Office of Foreign-Trade Zones, 1401 Constitution Ave., Room 21013, NW., Washington, DC, (202) 482-0862, or email, Christopher.Kemp@trade.gov, or fax (202) 482-0002.

SUPPLEMENTARY INFORMATION:

I. Abstract

This information collection is proposing a revision to the currently approved information collection instrument to include updated language to reflect the revised Foreign-Trade Zones Board regulations and to remove certain questions from the report which are no longer required.

The Foreign-Trade Zone Annual Report is the vehicle by which Foreign-Trade Zone grantees report annually to the Foreign-Trade Zones Board, pursuant to the requirements of the Foreign-Trade Zones Act (19 U.S.C. 81a-81u). The annual reports submitted by grantees are the only complete source of compiled information on FTZs. The data and information contained in the reports relates to international trade activity in FTZs. The reports are used by the Congress and the Department of Commerce to determine the economic effect of the FTZ program. The reports are also used by the FTZ Board and other trade policy officials to determine whether zone activity is consistent with U.S. international trade policy, and whether it is in the public interest. The public uses the information regarding activities carried out in FTZs to evaluate their effect on industry sectors. The information contained in annual reports also helps zone grantees in their marketing efforts.

II. Method of Collection

The Foreign-Trade Zone Annual Report is collected from zone grantees in a web-based, electronic format.

III. Data

OMB Control Number: 0625-0109.

Form Number(s): ITA-359P.

Type of Review: Regular submission (extension of a current information collection).

Affected Public: State, local, tribal governments; not-for-profit institutions that have been granted foreign-trade zone authority.

Estimated Number of Respondents: 173.

Estimated Time per Response: 12 to 95 hours (depending on size and structure of foreign-trade zone).

Estimated Total Annual Burden Hours: 11,660.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 28, 2014.
Gwellnar Banks,
Management Analyst, Office of the Chief Information Officer.

[FR Doc. 2014-10029 Filed 5-1-14; 8:45 am]

BILLING CODE 3510-DS-P